DEPARTMENT OF THE INTERIOR

Bureau of Land Management

[UT-921; UTU-83478]

Notice of Proposed Withdrawal and Transfer of Jurisdiction; Utah

AGENCY: Bureau of Land Management, Interior.

ACTION: Notice.

SUMMARY: The United States Department of Energy (DOE) has filed an application requesting the Secretary of the Interior to segregate from the mining laws approximately 1,476.5 acres of public lands associated with a proposed withdrawal and transfer of jurisdiction. The proposed withdrawal will protect public health and safety on lands contaminated by previous mining and milling operations. This notice temporarily segregates the lands for up to 2 years from location and entry under the United States mining laws while the withdrawal application is being processed.

DATE: Comments must be received on or before December 24, 2007.

ADDRESSES: Comments should be sent to the Moab Field Manager, Bureau of Land Management, 82 East Dogwood Avenue, Moab, Utah 84532.

FOR FURTHER INFORMATION CONTACT: Mary von Koch, Realty Specialist, Moab Field Office, at the above address, (435) 259-2128.

SUPPLEMENTARY INFORMATION: The United States Department of Energy has filed an application with the Bureau of Land Management to segregate from the United States mining laws the public lands described below. Jurisdiction over approximately 1,476.5 acres will ultimately be withdrawn and transferred from the Department of the Interior to the Department of Energy, subject to valid existing rights.

Salt Lake Meridian

A parcel of land within sections 17, 18, 19, 20, and 21, T. 29 S., R. 24 E., San Juan County, Utah, more particularly described as follows:

Beginning at the NE corner section 21, T 29 S, R 24 E, SLM, and proceeding thence with the north line of section 21 N 89°47′38″ W 2641.47 feet to the north ¼ corner of section 21, thence with the north line of section 21 N 89°48′01″ W 2632.51 feet to the NW corner of section 21, thence with the north line of section 20 N 89°57′11″ W 626.74 feet to the SE corner of section 17, thence with the east line of section 17 N 00°09′50″ E 2348.18 feet to the west ¼ corner of section 16, thence with the east line of section 17 N 00°14′39″ E 278.89 feet to the east ¼ corner of section 17, thence with the center ¼ line S 89°58′28″ W 4651.57 feet to the ¼ corner of sections 17 and 18, thence with the center ¼ line N 89°52′47″ W 2638.81 feet to the center ¼ corner of section 18, thence with the center ¼ line S 00°05′13″ W 2642.09 feet to the ¼ corner sections 18 and 19, thence with the center ¼ line of section 19 S 00°01′31″ E 2642.73 feet to the center ¼ corner section 19, thence with the center ¼ line of section 19 N 89°59′10″ E 2641.20 feet to ¼ corner to sections 19 and 20, thence with the center ¼ line of section 20 N 89°51′20″ E 2640.14 feet to the center ¼ corner section 20, thence with the center ¼ line of section 20 S 00°09′42″ E 2641.01 feet to the ¼ corner to sections 20 and 29, thence with the south line of section 20 N 89°49′47″ E 2633.42 feet to the corner to sections 20, 21, 28 and 29, thence with the south line of section 21 S 89°49′24″ E 3285.09 feet, thence with the exterior boundary of patented lands the following 21 courses: N 12°47′08″ E 1409.64 feet, thence N 72°20′49″ W 599.75 feet, thence N 67°51′26″ W 599.74 feet, thence S 12°47′32″ W 1498.74 feet, thence N 68°35′52″ W 600.45 feet, thence N 12°47′08″ E 1499.50 feet, thence N 72°49′52″ W 600.00 feet, thence N 07°08′08″ E 1169.49 feet, thence N 80°44′52″ W 182.88 feet, thence N 14°59′08″ E 429.75 feet, thence N 89°48′52″ W 219.34 feet, thence N 00°11′08″ E 1499.50 feet, thence S 89°48′52″ E 599.50 feet, thence S 00°11′08″ W 1390.07 feet, thence S 80°44′52″ E 1153.05 feet, thence S 14°59′08″ W 511.78 feet, thence S 67°54′52″ E 444.63 feet, thence S 72°20′52″ E 600.00 feet, thence S 80°10′52″ E 600.00 feet, thence S 85°07′52″ E 600.00 feet, thence N 86°21′08″ E 290.00 feet to the east line of section 21, thence with the east line of said section 21 N 00°02′24″ E 2541.98 feet to the point of beginning.

The area described contains approximately 1476.5 acres in San Juan County.

The purpose of the proposed withdrawal and transfer of jurisdiction is to allow the United States Department of Energy perpetual administration over the land as a hazardous material site under the authority of the Uranium Mill Tailings Radiation Control Act of 1978, 42 U.S.C. 7902, et seq.

For a period of 90 days from the date of publication of this notice, all persons who wish to submit comments, suggestions, or objections in connection with the proposed action may present their views in writing to the BLM Moab Field Manager, at the address noted above.

Comments, including names and street addresses of respondents, and records relating to the proposed withdrawal will be available for public review during regular business hours at the Moab Field Office at the address specified above. Individual respondents may request confidentiality. Before including your address, phone number, e-mail address, or other personal identifying information in your comment, you should be aware that your entire comment—including your personal identifying information—may be made publicly available at any time. While you can ask us in your comments to withhold your personal identifying information from public review, we cannot guarantee that we will be able to do so.

This application will be processed in accordance with the regulations set forth in 43 CFR 2300.

Rights-of-way, leases, permits, cooperative agreements and other discretionary land use authorizations of a temporary nature would continue under the BLM during the 2-year segregation period.

No water rights would be needed to fulfill the purpose of this withdrawal.

Effective on the date of publication of this notice, the lands will be segregated from location and entry under the United States mining laws. The segregative effect of this application will terminate September 25, 2009, unless final withdrawal action is taken or the application is denied or cancelled prior to that date (43 CFR 2310.2). Notice of any action will be published in the Federal Register.

Notice is hereby given that an opportunity for a public meeting is afforded in connection with the proposed withdrawal and transfer of jurisdiction. All interested persons who desire a public meeting for the purpose of being heard on the proposed withdrawal and transfer of jurisdiction must submit a written request to the BLM Moab Field Office at the address indicated above within 90 days from the date of publication of this notice. If the authorized officer determines that a public meeting will be held, a notice of the time and place will be published in the Federal Register at least 30 days before the scheduled date of the meeting.

(Authority: 43 CFR 2310.3-1)

Kent Hoffman,
Deputy State Director, Lands and Minerals.

[FR Doc. E7-18890 Filed 9-24-07; 8:45 am]

BILLING CODE 6450-01-P